DEPARTMENT OF COMMERCE

National Oceanic and Atmospheric Administration

[RTID 0648-XB288]

Endangered and Threatened Species; Take of Anadromous Fish

AGENCY: National Marine Fisheries Service (NMFS), National Oceanic and Atmospheric Administration (NOAA), Commerce.

ACTION: Notice; Determination on Hatchery and Genetic Management Plan (HGMP) and availability of the associated Finding of No Significant Impacts (FONSI).

SUMMARY: Notice is hereby given that NMFS has made a determination on a joint tribal and state resource management plan (RMP) pursuant to Limit 6 of the Endangered Species Act (ESA) section 4(d) and has issued a Final Environmental Assessment (EA) and FONSI addressing the effects of the 4(d) determination. The Tulalip Tribes and Washington Department of Fish and Wildlife (collectively the co-managers) have submitted an RMP, in the form of a HGMP, to NMFS pursuant to limit 6 of the ESA 4(d) Rule for a summer steelhead hatchery program in the Skykomish River basin. The hatchery program is intended to contribute to fulfilling Federal tribal trust responsibilities and treaty rights guaranteed through treaties. It is also designed to contribute to the survival and recovery of Puget Sound steelhead and produce summer steelhead for sustainable fisheries. Before making its final determinations, NMFS solicited and took into account public comments on a proposed evaluation and pending determination (PEPD) document for the program. The determinations announced in this notice consist of NMFS' findings as to whether the HGMP submitted to NMFS addresses the criteria. NMFS also announces the availability of a Final EA and FONSI addressing the effects of the 4(d) determination.

FOR FURTHER INFORMATION CONTACT: Emi Melton, at phone number: (503) 736-4739, or via email: emi.melton@noaa.gov.

SUPPLEMENTARY INFORMATION:

Species Covered in This Notice

Steelhead (Oncorhynchus mykiss): threatened, naturally produced and artificially propagated Puget Sound.

Chinook salmon (O. tshawytscha): threatened, naturally produced and artificially propagated Puget Sound.

Discussion of the Biological Analysis Underlying the Determinations

The goals of the Skykomish summer steelhead program are: (1) To produce South Fork Skykomish River summer steelhead for sustainable fisheries, (2) to contribute to fulfilling Federal tribal trust responsibilities and treaty rights guaranteed through treaties and affirmed in U.S. v. Washington (1974), and (3) to contribute to the conservation and restoration of the North Fork Skykomish River summer steelhead population.

The program would be operated in such a way as to minimize potential risks to listed natural-origin Chinook salmon and steelhead populations, including interactions between hatchery and natural fish that may lead to adverse genetic effects and competition and predation effects. The proposed hatchery program is consistent with the recovery plans for each of the listed species, designed to protect and restore listed species across their range. The program uses adaptive management procedures and the best available science to minimize adverse genetic effects typically associated with steelhead hatchery programs. As part of the proposed hatchery program, monitoring and evaluation would be implemented to assess performance in meeting population conservation or harvest augmentation objectives, and to evaluate effects on ESA-listed natural-origin Chinook salmon and steelhead. Information gained through monitoring and evaluation will be used to assess whether the impacts of the program on listed fish are as expected.

Review of monitoring and evaluation results by NMFS and the co-managers will occur annually to evaluate whether assumptions regarding the hatchery program effects and analysis remain valid and whether the objectives are being accomplished. The HGMP includes provisions for annual reports that will assess compliance with performance standards established through the HGMP. Reporting and inclusion of new information derived from HGMP's research, monitoring, and evaluation activities will allow for adjustments of the activities to meet the performance standards in future seasons.

Summary of Comments Received

NMFS published a notice of its PEPD on the Skykomish Summer Steelhead Program for public review and comment on December 22, 2020 (85 FR 83519), as required under Limit 6 of the ESA section 4(d) Rule. The PEPD was available for public review and comment for 30 days, and our responses to the comments are addressed in our Evaluation and Recommended Determination.

NMFS published a notice of availability for public review and comment on the Draft EA on February 5, 2021 (86 FR 8342), in accordance with National Environmental Policy Act of 1969, as amended (42 U.S.C. 4321 et seq.). The Draft EA was available for public review and comment for 30 days, and our responses to the comments are addressed in our Final EA. NMFS has determined that there are no significant impacts associated with the project and issued a FONSI for the program on July 2, 2021.

Authority

16 U.S.C. 1531-1543; 50 CFR subpart B, § 223.201-202 also issued under 16 U.S.C. 1361 et seq.; 16 U.S.C. 5503(d) for 50 CFR 223.206(d)(9).

Dated: August 10, 2021.
Angela Somma,
Chief, Endangered Species Division, Office of Protected Resources, National Marine Fisheries Service.

[FR Doc. 2021-17381 Filed 8-12-21; 8:45 am]

BILLING CODE 3510-22-P